DEPARTMENT OF HEALTH AND HUMAN SERVICES

[Document Identifier: OS-4040-0008]

Agency Information Collection Request; 60-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before July 2, 2018.

ADDRESSES: Submit your comments to Sherrette.Funn@hhs.gov or by calling (202) 795-7714.

FOR FURTHER INFORMATION CONTACT: When submitting comments or requesting information, please include the document identifier 4040-0008-60D and project title for reference to Sherrette.funn@hhs.gov, or call the Reports Clearance Officer.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: Budget Information for Construction Programs (SF-424C).

Type of Collection: Extension.

OMB No.: 4040-0008.

Abstract: Budget Information for Construction Programs (SF-424C) is used by applicants to apply for Federal financial assistance. The Budget Information for Construction Programs (SF-424C) form allows the applicants to provide budget details as part of their grant proposals. This form is evaluated by Federal agencies as part of the overall grant application. Grants.gov seeks a 3-year extension.

Type of Respondent: The Budget Information for Construction Programs (SF-424C) form is used by organizations to apply for Federal financial assistance in the form of grants. These forms are submitted to the Federal grant-making agencies for evaluation and review.

Annualized Burden Hour Table
Forms (if necessary) | Respondents (if necessary) | Number of respondents | Number of responses per respondents | Average burden per response | Total burden hours
Budget Information for Construction Programs (SF-424C) | Grant-seeking organizations | 239 | 1 | 1 | 239
Total |  |  | 1 |  | 239

Terry Clark,
Office of the Secretary, Paperwork Reduction Act Reports Clearance Officer.

[FR Doc. 2018-09142 Filed 4-30-18; 8:45 am]

BILLING CODE 4151-AE-P